DEPARTMENT OF HEALTH AND HUMAN SERVICES

Charter Renewal of the Secretary's Advisory Committee on Human Research Protection

AGENCY: Office for Human Research Protections, Office of the Assistant Secretary for Health, Office of the Secretary, Department of Health and Human Services.

ACTION: Notice.

SUMMARY: The Department of Health and Human Services is hereby giving notice that the charter for the Secretary's Advisory Committee on Human Research Protection (SACHRP) has been renewed.

FOR FURTHER INFORMATION CONTACT: Ms. Julia Gorey, Designated Federal Officer for the SACHRP, Office for Human Research Protections, 1101 Wootton Parkway, Rockville, MD 20852. Phone: (240) 453-8141; Email: SACHRP@hhs.gov.

SUPPLEMENTARY INFORMATION: SACHRP is a discretionary Federal advisory committee. SACHRP is authorized under 42 U.S.C. 217a, Section 222 of the Public Health Service (PHS) Act, as amended. The Committee is governed by the provisions of the Federal Advisory Committee Act (FACA), Public Law 92-463, as amended (5 U.S.C. App), which sets forth standards for the formation and use of advisory committees.

SACHRP functions to provide advice to the Secretary, through the Assistant Secretary for Health, on matters pertaining to the continuance and improvement of functions within the authority of the Department of Health and Human Services concerning protections for human subjects in research.

SACHRP is authorized to have 11 public voting members. The members are selected from among individuals possessing demonstrated experience and expertise in any of the several disciplines and fields pertinent to human subjects protection and/or clinical research. The Committee's public members are appointed by the Secretary. All public members of the Committee are classified as special government employees (SGEs). The Committee structure includes non-voting ex-officio representation from eight Departmental agencies; the eighth, the Office of the National Coordinator for Health Information Technology, is being added with this charter renewal.

On September 30, 2020, the Secretary approved for the SACHRP charter to be renewed. The new charter was effected and filed with the appropriate Congressional committees and the Library of Congress on October 1, 2020. Renewal of the Committee's charter gives authorization for the Committee to continue to operate until October 1, 2022.

A copy of the SACHRP charter is available on the Committee's website at https://www.hhs.gov/ohrp/sachrp-committee/charter/index.html. A copy of the charter can also be obtained by accessing the FACA database that is maintained by the Committee Management Secretariat under the General Services Administration. The website address for the FACA database is www.facadatabase.gov.

Dated: October 21, 2020.
Jerry Menikoff,
Director, Office for Human Research Protections.

[FR Doc. 2020-23789 Filed 10-27-20; 8:45 am]

BILLING CODE 4150-36-P